DEPARTMENT OF HEALTH AND HUMAN SERVICES

Office of the Secretary

Notice of Meeting: Secretary's Advisory Committee on Genetics, Health, and Society

Pursuant to Public Law 92-463, notice is hereby given of the eighth meeting of the Secretary's Advisory Committee on Genetics, Health, and Society (SACGHS), U.S. Public Health Service. The meeting will be held from 8:30 a.m. to 6 p.m. on October 19, 2005 and 8:30 a.m. to 5 p.m. on October 20, 2005 at the Bethesda North Marriott Hotel, 5701 Marinelli Road, North Bethesda, Maryland. The meeting will be open to the public with attendance limited to space available. The meeting will be webcast.

The first half of the meeting will be devoted to the issue of large population studies of genetic variation, the environment and common disease. The Committee is working to identify salient scientific, ethical, and policy issues and questions associated with such studies and processes that could be employed to address them. On October 19, the Committee will gather input from several leaders in science and bioethics about the policy issues and how to address them, including mechanisms for engaging the general public. October 20th will be devoted to the further exploration of current issues in pharmacogenomics. The Committee is developing a report to the Secretary on this topic, and at this meeting they will explore the financial and economic considerations involved in integrating pharmacogenomics into clinical practice as well as delve more deeply into certain ethical, legal and social issues raised by pharmacogenomics. Time will be provided each day for public comments, and the public is encouraged to provide its perspectives to the Committee on these topics or any others related to the development and use of genetic technologies.

Under authority of 42 U.S.C. 217a, Section 222 of the Public Health Service Act, as amended, the Department of Health and Human Services established SACGHS to serve as a public forum for deliberations on the broad range of human health and societal issues raised by the development and use of genetic technologies and, as warranted, to provide advice on these issues. The draft meeting agenda and other information about SACGHS, including information about access to the webcast, will be available at the following Web site: http://www.od.nih.gov/oba/sacghs.htm.

The Committee would welcome hearing from anyone wishing to provide public comment on any issue related to genetics, health and society. Individuals who would like to provide public comment or who plan to attend the meeting and need special assistance, such as sign language interpretation or other reasonable accommodations, should notify the SACGHS Executive Secretary, Ms. Sarah Carr, by telephone at (301) 496-9838 or e-mail at sc112c@nih.gov. The SACGHS office is located at 6705 Rockledge Drive, Suite 750, Bethesda, MD 20892.

Dated: September 21, 2005.
Anthony M. Coelho, Jr.,
Acting Director, Office of Federal Advisory Committee Policy.

[FR Doc. 05-19388 Filed 9-27-05; 8:45 am]

BILLING CODE 4140-01-M